DEPARTMENT OF THE INTERIOR

Fish and Wildlife Service

50 CFR Part 21

RIN 1018-AI05

Review of Captive-Reared Mallard Regulations on Shooting Preserves

AGENCY: Fish and Wildlife Service, Interior.

ACTION: Notice of availability.

SUMMARY: This notice advises the public that a Final Draft of a review of regulations pertaining to the release and take of captive-reared mallards on licensed shooting preserves is available for public review. Comments and suggestions are requested.

DATES: You must submit comments pertaining to the review of regulations governing the release of captive-reared mallards by December 20, 2003.

ADDRESSES: Send your comments to: Jerome R. Serie, Atlantic Flyway Representative, U.S. Fish and Wildlife Service, Division of Migratory Bird Management, 12100 Beech Forest Drive, Room 224, Laurel, Maryland 20708-4038. Copies of the Final Draft “Review of Captive-reared Mallard Regulations on Shooting Preserves” can be obtained by writing to the above address. The Final Draft may also be viewed via the U.S. Fish and Wildlife Service's Home Page at http://migratorybirds.fws.gov. All comments received, including names and addresses, will become part of the public record. You may inspect comments during normal business hours at the above address.

FOR FURTHER INFORMATION CONTACT: Jerome R. Serie, Atlantic Flyway Representative, (301) 497-5851.

SUPPLEMENTARY INFORMATION: On June 1, 1993, we published in the Federal Register (58 FR 31247) a notice of intent to review all aspects of regulations pertaining to the release and harvest of captive-reared mallards. This review was subsequently suspended until all the appropriate field studies were completed and results reviewed. On August 28, 2001, we reinitiated our review by publishing in the Federal Register (66 FR 45274) an updated notice of intent to review all aspects of regulations pertaining to the release and harvest of captive-reared mallards and provided the public with background information. These regulations, stated in § 21.13 of title 50 of the Code of Federal Regulations (CFR), allow captive-reared mallards, provided they are properly marked prior to 6 weeks of age by removal of the right hind toe, banding with a seamless metal band, pinioning, or tattooing, to be possessed and disposed of in any number, at any time, by any person, without a permit. Further, this regulation stipulates that such birds may be killed by shooting only in accordance with all applicable hunting regulations governing the take of mallard ducks from the wild, with the exception provided; that such birds may be killed by shooting, in any number, at any time, within the confines of any premises operated as a shooting preserve under State license, permit, or authorization. Because captive-reared mallards are classified as a “migratory bird” by definition in 50 CFR 10.12, and simply excepted by regulations in § 21.13 allowing their take, they remain protected under the Migratory Bird Treaty Act.

We do not oppose the shooting of captive-reared mallards on shooting preserves to supplement hunting opportunities for the public when precautions are taken to control the distribution of these birds. However, since 1985, this regulation has become more broadly interpreted and some shooting preserves actively release captive-reared mallards in large numbers in free-ranging situations on their premises. Often these properties are in areas frequented by wild ducks. Because both classes of mallards (captive-reared and wild) are indistinguishable until in the hand, regulatory conflicts can arise from allowing free-ranging, captive-reared birds to be taken without bag limits during closed seasons for wild ducks. Similarly, regulations involving live decoys and baiting (50 CFR 20.21) come into effect, which necessitate a discretionary interpretation by enforcement personnel in the field. Also, releases of thousands of uncontrolled, free-flighted captive-reared mallards into areas inhabited by wild ducks pose potential threats of disease transmission and genetic introgression or hybridization, and potentially render data-gathering activities by Federal, State, and Flyway waterfowl management programs less effective. Information pertaining to these potential conflicts is discussed, and recommendations to modify these regulations are considered. The primary focus is to assess the potential effects of the captive-reared releases and harvest on the status and management of wild migratory waterfowl.

We believe several options are available to alleviate potential conflicts and resolve management problems associated with captive-reared mallard release programs without adversely affecting the opportunities and operations on shooting preserves. Many of these options would require some modification of Federal regulations (50 CFR parts 20 and 21). We intend to explore these options and invite public comment on any options that may alleviate this problem. Comments may be sent to the address indicated under the caption ADDRESSES.

Authority

Under the Migratory Bird Treaty Act (16 U.S.C. 703-712), the Secretary of the Interior has responsibility for setting appropriate regulations for the hunting of migratory birds, with due regard for maintaining such populations in a healthy state and at satisfactory levels. The Fish and Wildlife Act of 1956 (16 U.S.C. 742 a-j) more specifically authorizes collection of such information as is necessary and to take steps as may be required to protect wildlife resources.

Dated: August 19, 2003.
Matt Hogan,
Acting Director, U.S. Fish and Wildlife Service.

[FR Doc. 03-21761 Filed 8-25-03; 8:45 am]

BILLING CODE 4310-55-P